DEPARTMENT OF AGRICULTURE

National Agricultural Statistics Service

Notice of Intent To Suspend the Nursery Production, the Nursery and Floriculture Chemical Use, and the Christmas Tree Production Surveys and All Associated Reports

AGENCY: National Agricultural Statistics Service, USDA.

ACTION: Notice of suspension of data collection and publication.

SUMMARY: This notice announces the intention of the National Agricultural Statistics Service (NASS) to suspend currently approved information collections for all Nursery and Christmas Tree Production Surveys along with the Nursery and Floriculture Chemical Use Survey approved under OMB # 0535-0244.

FOR FURTHER INFORMATION CONTACT: Joseph T. Reilly, Associate Administrator, National Agricultural Statistics Service, U.S. Department of Agriculture, (202) 720-4333, or through the NASS OMB Clearance Officer at ombofficer@nass.usda.gov.

SUPPLEMENTARY INFORMATION: Title: Suspension of All Nursery and Christmas Tree Production Surveys Along with the Nursery and Floriculture Chemical Use Survey and All Related Publications.

OMB Control Numbers: 0535-0244.

Expiration Dates of Approval: June 30, 2013.

Type of Request: To suspend the currently approved information collections for Nursery and Christmas Tree Production Surveys and the Nursery and Floriculture Chemical Use Survey and the resulting publications.

Abstract: The primary functions of the National Agricultural Statistics Service include the collection of data and the preparation and issuance of state and national estimates of crop and livestock production, disposition, prices, and environmental and economic factors.

Timeline: NASS will suspend this information collection as of December 19, 2011 due to budget constraints. NASS will not issue any publications that would normally be generated from any of the nursery production or chemical use surveys, unless there is a change in the anticipated budget shortfall.

Authority: These data were collected under authority of 7 U.S.C. 2204(a) (General Duties of the Secretary of Agriculture). Individually identifiable data collected under this authority are governed by Section 1770 of the Food Security Act of 1985, 7 U.S.C. 2276, which requires USDA to afford strict confidentiality to non-aggregated data provided by respondents.

Estimate of Burden: There will be no further public reporting burden for this collection of information.

Signed at Washington, DC, October 25, 2011.
Joseph T. Reilly,
Associate Administrator.

[FR Doc. 2011-32339 Filed 12-16-11; 8:45 am]

BILLING CODE 3410-20-P